DEPARTMENT OF ENERGY

National Nuclear Security Administration

Notice of Intent to Prepare a Site-Wide Environmental Impact Statement for the Y-12 National Security Complex

AGENCY: National Nuclear Security Administration, Department of Energy.

ACTION: Notice of Intent (NOI).

SUMMARY: Pursuant to the National Environmental Policy Act (NEPA) of 1969, as amended (42 U.S.C. 4321 et seq.), the Council on Environmental Quality's (CEQ) and the U.S. Department of Energy's (DOE) regulations implementing NEPA (40 CFR Parts 1500-1508 and 10 CFR Part 1021, respectively), the National Nuclear Security Administration (NNSA), an agency within the DOE, announces its intent to prepare a Site-Wide Environmental Impact Statement (SWEIS) for the Y-12 National Security Complex (Y-12) located at the junction of Bear Creek Road and Scarboro Road in Anderson County, Tennessee, near the city of Oak Ridge, Tennessee. NNSA has determined that one or more of the proposals to be evaluated would be a major federal action that could significantly affect the quality of the human environment; therefore, in accordance with the DOE regulations implementing NEPA, preparation of a new SWEIS is appropriate.

The new SWEIS will evaluate new proposals as well as update the analyses presented in the original SWEIS (DOE/EIS-0309) issued in November 2001 (66 FR 56663, November 9, 2001). In its 2002 Record of Decision (ROD) (67 FR 11296, March 13, 2002), DOE announced its decision to continue operations at Y-12 and to construct and operate two new facilities: (1) The Highly Enriched Uranium Materials Facility (HEUMF) and (2) the Special Materials Complex (SMC). The HEUMF is currently under construction. The SMC was subsequently cancelled due to changing mission requirements and replaced by a smaller facility that pertains to purification only (Supplement Analysis for Purification Facility, Site-Wide Environmental Impact Statement for the Y-12 National Security Complex, DOE/EIS-0309/SA-1, August 2002), and the installation of two new pieces of equipment to allow reuse of parts rather than construction of a facility to manufacture new parts. The No Action Alternative for the new SWEIS is the continued implementation of the 2002 ROD, as modified by actions analyzed in subsequent NEPA reviews. Three action alternatives are proposed for consideration in the new SWEIS in addition to the No Action Alternative. Each alternative includes the No Action Alternative as a baseline. The three alternatives differ in that one includes a new fully modernized manufacturing facility optimized for safety, security and efficiency; another consists of upgrading the existing facilities to attain the highest level of safety, security and efficiency possible without construction of new facilities; and the third consists of operating the current facilities until they are no longer viable followed by deactivation of those facilities and cessation of the associated operations.

DATES: NNSA invites comments on the scope of the SWEIS. The public scoping period starts with the publication of this NOI in the Federal Register and will continue through January 9, 2006. NNSA will consider all comments received or postmarked through this date in defining the scope of the SWEIS. Scoping comments received after this date will be considered to the extent practicable. NNSA will hold public scoping meetings at 475 Oak Ridge Turnpike, Oak Ridge, Tennessee, in the U.S. Department of Energy Information Center on December 15, 2005, from 11 a.m. to 2 p.m. and 6 p.m. to 9 p.m. The public scoping meetings will provide the public with an opportunity to present comments, ask questions, and discuss issues with NNSA officials regarding the SWEIS. The NNSA has invited the Tennessee Department of Environment and Conservation to participate as a cooperating agency in the preparation of the SWEIS. By this Notice of Intent, the NNSA requests all other federal, state, local and tribal agencies to express their interest in being designated as a cooperating agency in the preparation of the SWEIS.

ADDRESSES: For information concerning the SWEIS, please contact Ms. Pam Gorman, Y-12 SWEIS Document Manager, at (865) 576-9903 or e-mail at gormanpl@yso.doe.gov. Written comments on the scope of the SWEIS or requests to be placed on the document distribution list can be sent to the Y-12 SWEIS Document Manager, 800 Oak Ridge Turnpike, Suite A-500, Oak Ridge, TN 37830; by facsimile to (865) 482-6052; or by e-mail to comments@y-12sweis.com.

FOR FURTHER INFORMATION CONTACT: For general information on the DOE NEPA process, please contact: Ms. Carol M. Borgstrom, Director, Office of NEPA Policy and Compliance, EH-42, U.S. Department of Energy, 1000 Independence Avenue, SW, Washington, DC 20585, (202) 586-4600, or leave a message at 1-800-472-2756. Additional information regarding DOE NEPA activities and access to many NEPA documents, including the 2001 SWEIS, are available on the Internet through the NEPA Web site at http://www.eh.doe.gov/nepa.

SUPPLEMENTARY INFORMATION: Background. Y-12 is located on the Oak Ridge Reservation (ORR), approximately 25 miles west of Knoxville, Tennessee. For purposes of the SWEIS, the Y-12 Site is defined as approximately 5,400 acres of the 33,749-acre ORR, bounded by the DOE Boundary and Pine Ridge to the north, Scarboro Road to the east, Bethel Valley Road to the south, west to Mount Vernon Road, and then extending west along Bear Creek Road to Gum Branch Road and a corridor along Bear Creek Road to the intersection of Route 95. Y-12 has an annual budget of approximately $865 million and employs approximately 6,000 people.

NNSA is responsible for providing the nation with nuclear weapons components and ensuring those components remain safe and reliable. Y-12 is the NNSA's primary site for enriched uranium processing and storage, and one of the primary manufacturing facilities for maintaining the U.S. nuclear weapons stockpile. Y-12's nuclear nonproliferation programs play a critical role in securing our nation and the world and in combating the spread of weapons of mass destruction.

Non-defense activities at Y-12 include environmental monitoring and remediation activities; deactivation and decontamination activities; management of waste materials; research activities operated by the Oak Ridge National Laboratory; support of other DOE programs and federal agencies through the Work-for-Others Program; the transfer of specialized technologies to the U.S. industrial base; and, the supply of specialized materials to DOE's foreign and domestic customers.

Alternatives for the SWEIS. Three action alternatives and a No Action Alternative have been identified for analysis in the SWEIS. The list is tentative and intended to facilitate public comment on the scope of this SWEIS. The No Action Alternative is defined by the 2002 ROD baseline, as amended by subsequent NEPA reviews. Alternative 1 includes the No Action Alternative and proposes to modernize the Y-12 National Security Complex around a modern Uranium Processing Facility (UPF). Alternative 2 includes the No Action Alternative and proposes extending the life of existing facilities with only the most cost effective modernization possible without replacing the current structures. Alternative 3 consists of reducing site operations as facilities reach the point where they can no longer be safely operated without significant repairs or modernization.

No Action Alternative. The No Action Alternative includes the continued implementation of the 2002 ROD as modified by subsequent actions which have undergone separate NEPA review. The following decisions announced in the 2002 ROD, modifications to these decisions, and actions undertaken since the 2002 ROD are included in the No Action Alternative.

1. Highly Enriched Uranium Materials Facility (HEUMF). The new HEUMF (now under construction) will store all highly enriched uranium that is not being used in manufacturing activities. The HEUMF—to be completed in 2007 and start full-scale operations in 2008—will reduce the current storage footprint, improve security and lower operating costs as described in DOE/EIS-0309.

2. Special Materials Complex (SMC). This project was cancelled because it was no longer required by the reduced manufacturing needs of the smaller weapons stockpile. The project was replaced by a new purification facility and installation of two pieces of equipment within an existing facility; these actions allow reuse of existing parts. (Final Supplement Analysis for Purification Facility, Site-Wide Environmental Impact Statement for the Y-12 National Security Complex, DOE/EIS-0309/SA-1, August 2002). The Supplement Analysis assessed whether the potential environmental impacts of the stand-alone purification facility, a component of the SMC analyzed in the Y-12 SWEIS, would require the preparation of a Supplemental SWEIS. The determination was made that proceeding with the purification facility would either reduce or not affect the environmental impacts of the SMC identified in the Y-12 SWEIS, and therefore no additional NEPA analysis was required.

3. Infrastructure Reduction Initiative (IRI). The IRI is a series of individual projects to remove excess buildings and infrastructure, with a goal of reducing the active footprint at Y-12 by 50 percent during the next decade. As of September 27, 2005, total operational space at Y-12 has been reduced by 1,119,910 square feet and 244 buildings have been demolished or removed. Over the past five years, each demolition project was reviewed pursuant to NEPA prior to initiation and found to be covered by the Categorical Exclusion established by 10 CFR 1021 Appendix B1.23 (Demolition and Subsequent Disposal of Buildings, Equipment, and Support Structures).

4. Manufacturing Support and Public Interface facilities. These privately developed facilities are technical, administrative, and light laboratory buildings that will be built on land transferred to a private entity. The managing and operating contractor of the Y-12 Plant may lease these facilities. They were included in an Environmental Assessment (EA) and a subsequent Finding of No Significant Impact (FONSI) (Alternate Financed Facility Modernization EA and FONSI, DOE/EA-1510, January 2005).

5. Transportation of Highly Enriched Uranium (HEU) from foreign locations to Y-12. Subsequent to issuance of the 2002 Record of Decision (ROD) (67 FR 11296, March 13, 2002), the Y-12 site was given the additional mission of securing and storing small quantities of HEU transported from foreign locations to prevent proliferation of nuclear weapons and to minimize or eliminate the use of HEU in civilian reactors. Environmental Assessments were prepared and FONSI's issued for these actions (Environmental Assessment for the Transportation of Highly Enriched Uranium from the Russian Federation to the Y-12 Security Complex, DOE/EA-1471, January 2004; and Environmental Assessment for the Transportation of Unirradiated Uranium in Research Reactor Fuel from Argentina, Belgium, Japan and the Republic of Korea to the Y-12 National Security Complex, DOE/EA-1529, June 2005).

The No Action Alternative also includes the following other actions for which NEPA documentation is pending and expected to be completed prior to issuance of any ROD based on this SWEIS: (1) refurbishments or upgrades to Y-12 utility systems, such as those for potable water (Environmental Assessment for the Y-12 Potable Water System Upgrade, DOE/EA-1548; Final EA and a FONSI expected to be completed in January 2006); and (2) disposition of excess mercury in storage at Y-12 (an Environmental Assessment is currently being prepared and should be completed in early 2006).

Alternative 1. New Uranium Processing Facility (UPF). Under this alternative, NNSA would take all actions in the No Action Alternative, undertake a series of utilities modernization projects not assessed in previous NEPA documents, construct and operate a modern UPF sized to support the smaller nuclear weapon stockpile of the future, and take other actions as described below to create a modern weapon enterprise.

The UPF would be the keystone of the modernization efforts in this alternative. The UPF would consolidate all enriched uranium (EU) operations into an integrated manufacturing operation sized to satisfy all identified programmatic needs and would be sited adjacent to the HEUMF to allow the two facilities to function as one integrated operation. Extensive engineered security and safety features would combine with technical innovations such as agile machining to allow significant improvements in working conditions for production workers and security guards. Operations to be consolidated in the UPF are currently located in six facilities. After startup of UPF operations, some of these facilities would be used to consolidate non-EU operations, and others would be demolished.

Transition of EU production operations to the UPF and transition of EU storage operations into HEUMF (No Action Alternative) would create a new high-security area equal to 10 percent of the current high security protected area. The current high security protected area would revert to normal access.

Some other aspects of the site would be modernized, including upgrades to site electrical, compressed air, steam, and security systems. Nonnuclear operations and plant support functions would be consolidated into four new facilities adjacent to the new high-security area, and most of the Manhattan Project and Cold War structures on the site (excepting those with historical designations) could be demolished. The costs of nonnuclear modernization and building removal would be significantly reduced because the construction and demolition projects would not require the expensive security measures required for work within the high security protected area. Separate NEPA reviews would be conducted for each demolition project.

The new facilities, especially the UPF, would increase the safety of workers and the public by replacing many of the administrative controls in aging facilities with contemporary engineered safety features. Operating and security costs of the new facilities would be significantly less than those of the current facilities. Demolition of non-historic facilities would eliminate the safety and environmental risks of maintaining old deactivated structures.

Alternative 2. Upgrades to Existing Enriched Uranium and Other Processing Facilities. Under this alternative, NNSA would continue the No Action Alternative, undertake a series of utilities modernization projects not assessed in the previous NEPA documents, and upgrade the existing enriched uranium and nonnuclear processing facilities to contemporary environmental, safety, and security standards to the extent possible within the limitations of the existing structures and without prolonged interruptions of manufacturing operations.

Under this alternative, there would be no UPF, the high-security area would expand to include the HEUMF, and no parts of the current high-security area would revert to normal access. Existing production facilities would be modernized to the extent possible within the limitations of the existing structures and without prolonged interruptions of manufacturing operations; however, it would not be possible to attain the level of safety, security and efficiency possible in Alternative 1.

The current facilities were constructed during the Manhattan Project or in the early days of the Cold War when construction and safety standards were very different than today. Their modernization would require extensive changes to critical building sytems including electrical and fire protection systems. Ventilation systems would have to be re-engineered and replaced with modern systems. Some structures would require extensive re-enforcement to allow the seismic response required by current codes.

It would not be possible in all cases to modernize the existing structures to meet current operational, safety and security expectations. The age and configuration of some existing critical facilities preclude streamlined operations and also preclude some new safety and security features. Such facilities offer only limited opportunities to reduce operating and security costs or to enhance the safety of operations. While some improvements would be made to the existing facilties to address natural phenomena hazards such as earthquakes and tornadoes, the age of those facilities and their configuration may preclude cost-effective improvements in these critical areas to bring them up to current DOE standards.

Some other nonnuclear aspects of the site would be modernized, including upgrades to electrical, compressed air, steam, and security systems. Some nonnuclear operations and plant support functions would be consolidated into existing structures. Nonnuclear operations would be modernized through consolidation of operations into existing facilities with no new construction. Nonnuclear modernizations and demolition of unneeded Manhattan Project and Cold War facilities would be conducted within the expanded high security protected area at significantly higher costs than Alternative 1.

Alternative 3. Reduced Operations. NNSA would invest no additional funds beyond normal maintenance in the Y-12 National Security Complex. Facilities posing an unacceptable risk to workers or the public would be minimally upgraded if an inexpensive upgrade would allow operations to continue safely, or deactivated if the costs to operate safely exceeded the costs of normal maintenance. Although NNSA would maintain full operational readiness in Y-12 facilities and operations where that could be done safely with normal maintenance expenditures, operations would cease when expensive maintenance needs rendered facilities unviable. As NNSA retired unviable facilities, the operations in these facilities would cease and Y-12 would lose the ability to perform the missions located in these facilities.

NNSA would make the expenditures necessary to maintain safety and security for nuclear materials or other hazardous materials. Additionally, Y-12 would make the expenditures needed to continue dismantlement activities consistent with Presidential direction to reduce the nuclear weapons stockpile, even if those operations required significant maintenance expenditures. Demolition of excess facilities beyond that described in the No Action Alternative would be subject to a separate NEPA review if funds became available. This alternative differs from the No Action Alternative in that the No Action Alternative assumes sufficient expenditures to sustain operational capability, while the Reduced Operations Alternative assumes deactivation of facilities when their continued safe operation requires more than normal maintenance except where noted above.

Public Scoping Process. The scoping process is an opportunity for the public to assist the NNSA in determining the issues for impact analysis. A public scoping meeting will be held as noted under Dates. The purpose of the scoping meeting is to provide the public with an opportunity to present oral and written comments, ask questions, and discuss concerns regarding the new SWEIS with NNSA officials. Comments and recommendations can also be communicated to NNSA as noted earlier in this notice under ADDRESSES. The SWEIS public meetings will use a format to facilitate dialogue between NNSA and the public. NNSA welcomes specific comments or suggestions on the content of the document.

The potential scope of the SWEIS discussed in the previous portions of this NOI is tentative and is intended to facilitate public comment on the scope of the SWEIS. The SWEIS will describe the potential environmental impacts of the alternatives by using available data where possible and obtaining additional data where necessary. Copies of written comments and transcripts of oral comments provided to NNSA during the scoping period will be available at the U.S. Department of Energy Public Reading Room at 230 Warehouse Road, Oak Ridge, TN 37830, and on the internet at http://www.y-12sweis.com. The 2001 SWEIS is available on the internet at http://www.eh.doe.gov/nepa/eis/eis0309/toc.html.

SWEIS Preparation Process. The SWEIS preparation process begins with the publication of this NOI in the Federal Register. After the close of the public scoping period, NNSA will begin preparing the draft SWEIS. NNSA expects to issue the draft SWEIS for public review by next summer. Public comments on the draft SWEIS will be received during a comment period of at least 45 days following the U.S. Environmental Protection Agency publication of the Notice of Availability in the Federal Register. Notices placed in local newspapers will specify dates and locations for at least one public hearing on the draft SWEIS, and will establish a schedule for submitting comments on the draft, including a final date for submission of comments. Issuance of the final SWEIS is scheduled for late 2006.

Classified Material. NNSA will review classified material while preparing this SWEIS. Within the limits of classification, NNSA will provide the public as much information as possible to assist its understanding and ability to comment. Any classified material needed to explain the purpose and need for the action, or the analyses in this SWEIS, will be segregated into a classified appendix or supplement, which will not be available for public review. However, all unclassified information or results of calculations using classified data will be reported in the unclassified section of the SWEIS, to the extent possible in accordance with Federal classification requirements.

Issued in Washington, DC, this 18th day of November, 2005.
Linton F. Brooks,
Administrator, National Nuclear Security Administration.

[FR Doc. 05-23369 Filed 11-25-05; 8:45 am]

BILLING CODE 6450-01-P